DEPARTMENT OF ENERGY

10 CFR Part 430

[Docket No. EERE-2007-BT-STD-0016]

RIN 1904-AB50

Energy Conservation Standards for Fluorescent Lamp Ballasts: Public Meeting and Availability of the Preliminary Technical Support Document

AGENCY: Office of Energy Efficiency and Renewable Energy, Department of Energy.

ACTION: Notice of public meeting and availability of preliminary technical support document.

SUMMARY: The U.S. Department of Energy (DOE) will hold a public meeting to discuss and receive comments on: the product classes that DOE plans to analyze for purposes of establishing energy conservation standards for fluorescent lamp ballasts; the analytical framework, models, and tools that DOE is using to evaluate standards for these products; the results of preliminary analyses DOE performed for these products; and potential energy conservation standard levels derived from these analyses that DOE could consider for these products. DOE encourages written comments on these subjects. To inform interested parties and facilitate this process, DOE has prepared an agenda, a preliminary technical support document (TSD), and briefing materials, which are available at http://www1.eere.energy.gov/buildings/appliance_standards/residential/fluorescent_lamp_ballasts.html.

DATES: DOE will hold a public meeting on Monday, April 26, 2010, beginning at 9 a.m. in Washington, DC. The agenda for the public meeting will first cover the concurrent test procedure rulemaking for fluorescent lamp ballasts (see proposal in today's Federal Register), and then this energy conservation standards rulemaking for the same products. Any person requesting to speak at the public meeting should submit such a request, along with an electronic copy of the statement to be given at the public meeting, before 4 p.m., Monday, April 12, 2010. Written comments are welcome, especially following the public meeting, and should be submitted by May 10, 2010.

ADDRESSES: The public meeting will be held at the U.S. Department of Energy, Forrestal Building, Room 8E-089, 1000 Independence Avenue, SW., Washington, DC 20585-0121. Please note that foreign nationals participating in the public meeting are subject to advance security screening procedures. If a foreign national wishes to participate in the public meeting, please inform DOE of this fact as soon as possible by contacting Ms. Brenda Edwards at (202) 586-2945 so that the necessary procedures can be completed. Interested persons may submit comments, identified by docket number EERE-2007-BT-STD-0016, by any of the following methods:

• Federal eRulemaking Portal: http://www.regulations.gov. Follow the instructions for submitting comments.

• E-mail: ballasts.rulemaking@ee.doe.gov. Include EERE-2007-BT-STD-0016 and/or RIN 1904-AB50 in the subject line of the message.

• Postal Mail: Ms. Brenda Edwards, U.S. Department of Energy, Building Technologies Program, Mailstop EE-2J, Public Meeting for Fluorescent Lamp Ballasts, EERE-2007-BT-STD-0016, 1000 Independence Avenue, SW., Washington, DC 20585-0121. Telephone (202) 586-2945. Please submit one signed paper original.

• Hand Delivery/Courier: Ms. Brenda Edwards, U.S. Department of Energy, Building Technologies Program, Sixth Floor, 950 L'Enfant Plaza, SW., Washington, DC 20024. Telephone (202) 586-2945. Please submit one signed paper original.

Instructions: All submissions received must include the agency name and docket number.

Docket: For access to the docket to read background documents or a copy of the transcript of the public meeting or comments received, go to the U.S. Department of Energy, Sixth Floor, 950 L'Enfant Plaza, SW., Washington, DC 20024, (202) 586-2945, between 9 a.m. and 4 p.m., Monday through Friday, except Federal holidays. Please call Ms. Brenda Edwards at (202) 586-2945 for additional information regarding visiting the Resource Room.

FOR FURTHER INFORMATION CONTACT: Direct requests for additional information to Ms. Linda Graves, U.S. Department of Energy, Office of Energy Efficiency and Renewable Energy, Building Technologies, EE-2J, 1000 Independence Avenue, SW., Washington, DC 20585-0121, (202) 586-8654. E-mail: Linda.Graves@ee.doe.gov. In the Office of General Counsel, contact Ms. Francine Pinto or Ms. Elizabeth Kohl, U.S. Department of Energy, Office of General Counsel, GC-71, 1000 Independence Avenue, SW., Washington, DC 20585, (202) 586-7432. E-mail: Francine.Pinto@hq.doe.gov; Elizabeth.Kohl@hq.doe.gov.

SUPPLEMENTARY INFORMATION:

I. Statutory Authority

II. History of Standards Rulemaking for Fluorescent Lamp Ballasts

A. Background

B. Current Rulemaking Process

III. Summary of the Analyses

A. Engineering Analysis

B. Energy Use Characterization

C. Markups To Determine Installed Price

D. Life-Cycle Cost and Payback Period Analyses

E. National Impact Analysis

I. Statutory Authority

The Energy Policy and Conservation Act (EPCA) of 1975, Public Law 94-163 (42 U.S.C. 6291-6309), established an energy conservation program for major household appliances. Amendments to EPCA in the National Appliance Energy Conservation Amendments of 1988 (NAECA 1988), Public Law 100-357, established energy conservation standards for fluorescent lamp ballasts. These amendments also required that DOE (1) conduct two rulemaking cycles to determine whether these standards should be amended; and (2) for each rulemaking cycle, determine whether the standards in effect for fluorescent lamp ballasts should be amended to apply to additional fluorescent lamp ballasts. (42 U.S.C. 6295(g)(7)(A)-(B)). On September 19, 2000, DOE published a final rule in the Federal Register, which completed the first rulemaking cycle to amend energy conservation standards for fluorescent lamp ballasts. 65 FR 56740, 56740-56749 (September 19, 2000). This rulemaking encompasses DOE's second cycle of review to determine whether the standards in effect for fluorescent lamp ballasts should be amended and whether the standards should be applicable to additional fluorescent lamp ballasts.

DOE must design each standard for these products to (1) achieve the maximum improvement in energy efficiency that is technologically feasible and economically justified, and (2) result in significant conservation of energy. (42 U.S.C. 6295(o)(2)(A) and (o)(3)) To determine whether a proposed standard is economically justified, DOE must determine whether the benefits of the standard exceed its burdens to the greatest extent practicable, weighing the following seven factors:

1. The economic impact of the standard on manufacturers and consumers of products subject to the standard;

2. The savings in operating costs throughout the estimated average life of the covered products in the type (or class) compared to any increase in the price, initial charges, or maintenance expenses for the covered products which are likely to result from the imposition of the standard;

3. The total projected amount of energy savings likely to result directly from the imposition of the standard;

4. Any lessening of the utility or the performance of the covered products likely to result from the imposition of the standard;

5. The impact of any lessening of competition, as determined in writing by the Attorney General, that is likely to result from the imposition of the standard;

6. The need for national energy conservation; and

7. Other factors the Secretary [of Energy] considers relevant.

(42 U.S.C. 6295(o)(2)(B)(i))

Before proposing a standard, DOE typically seeks public input on the analytical framework, models, and tools that will be used to evaluate standards; the results of preliminary analyses; and potential energy conservation standard levels derived from these analyses. DOE is publishing this document to announce the availability of the preliminary technical support document (TSD), which details the preliminary analyses, discusses the comments on the framework document, and summarizes the preliminary results. In addition, DOE is announcing a public meeting to solicit feedback from interested parties on its analytical framework, models, and preliminary results.

II. History of Standards Rulemaking for Fluorescent Lamp Ballasts

A. Background

As mentioned above, NAECA 1988 amended EPCA to establish energy conservation standards for fluorescent lamp ballasts and require that DOE (1) conduct two rulemaking cycles to determine whether these standards should be amended; and (2) for each rulemaking cycle, determine whether the standards in effect for fluorescent lamp ballasts should be amended so that they would be applicable to additional fluorescent lamp ballasts. (42 U.S.C. 6295(g)(7)(A)-(B)) On September 19, 2000, DOE published a final rule in the Federal Register, which completed the first of the two rulemaking cycles to evaluate and amend the energy conservation standards for fluorescent lamp ballasts (hereafter “the 2000 Ballast Rule”). 65 FR 56740 (September 19, 2000). This rulemaking established a consensus standard representing an agreement between the fluorescent lamp ballast industry and energy efficiency advocacy organizations. A table of the standards DOE codified can be found in appendix 3A of the preliminary TSD and in 10 CFR 430.32(m)(3).

Congress promulgated new energy conservation standards for certain fluorescent lamp ballasts under the Energy Policy Act of 2005 (EPACT 2005), Public Law 109-58. (EPACT section 135(c)(2); codified at 42 U.S.C. 6295(g)(8)(A)) On October 18, 2005, DOE published a final rule in the Federal Register codifying those new fluorescent lamp ballast standards into the Code of Federal Regulations at 10 CFR 430.32(m). 70 FR 60407. These standards established ballast efficacy requirements for “energy saver” versions of full-wattage ballasts, such as the F34T12 ballast.

On December 19, 2007, the President signed the Energy Independence and Security Act of 2007 (EISA 2007; Pub. L. 110-140). EISA 2007 did not amend standards for fluorescent lamp ballasts, but instead directed DOE to amend its test procedure for fluorescent lamp ballasts to incorporate a measure of standby mode and off mode energy consumption. (42 U.S.C. 6295(gg)(2)) DOE published a notice of proposed rulemaking (NOPR) for the standby and off mode test procedure on January 21, 2009. 74 FR 3450. In addition, DOE is directed to incorporate standby mode and off mode energy use in any amended (or new) standard adopted after July 1, 2010. (42 USC 6295(gg)(3)) Because this energy conservation standards rulemaking for fluorescent lamp ballasts will be completed in 2011, the requirement to incorporate standby mode energy use into the energy conservation standards analysis is applicable.

This rulemaking encompasses DOE's second cycle of review to determine whether the standards in effect for fluorescent lamp ballasts should be amended and whether the standards should be made applicable to additional fluorescent lamp ballasts. This rulemaking also addresses 42 U.S.C. 6295(gg)(3), in which DOE is directed to incorporate standby mode and off mode energy use in any amended (or new) standard adopted after July 1, 2010.

Under the consolidated Consent Decree in New York v. Bodman, No. 05 Civ. 7807 (S.D.N.Y. filed Sept. 7, 2005) and Natural Resources Defense Council v. Bodman, No. 05 Civ. 7808 (S.D.N.Y. filed Sept. 7, 2005) the U.S. Department of Energy is required to publish a final rule amending energy conservation standards for fluorescent lamp ballasts no later than June 30, 2011.

B. Current Rulemaking Process

On January 22, 2008, DOE published a notice announcing the availability of the framework document, “Energy Conservation Standards Rulemaking Framework Document for Fluorescent Lamp Ballasts,” and a public meeting to discuss the proposed analytical framework for the rulemaking. 73 FR 3653. DOE also posted the framework document on its website describing the procedural and analytical approaches DOE anticipated using to evaluate the establishment of energy conservation standards for fluorescent lamp ballasts. This document is available at http://www1.eere.energy.gov/buildings/appliance_standards/residential/pdfs/ballast_framework_011408.pdf.

DOE held a public meeting on February 6, 2008, to describe the various rulemaking analyses DOE would conduct, such as the engineering analysis, the life-cycle cost (LCC) and payback period (PBP) analyses, and the national impact analysis (NIA); the methods for conducting them; and the relationship among the various analyses. Manufacturers, trade associations, and environmental advocates attended the meeting. The participants discussed multiple issues, including the scope of covered fluorescent lamp ballasts, definitions, test procedures, the ballast efficiency metric, DOE's engineering analysis, life-cycle costs, efficiency levels, and energy savings.

Comments received since publication of the framework document have helped DOE identify and resolve issues involved in the preliminary analyses. Chapter 2 of the preliminary TSD summarizes and addresses the comments DOE received.

III. Summary of the Analyses

DOE conducted in-depth technical analyses in the following areas for the fluorescent lamp ballasts currently under consideration: (1) Engineering, (2) energy-use characterization, (3) markups to determine product price, (4) LCC and PBP, and (5) national impact. The preliminary TSD presents the methodology and results of each analysis. The analyses are described in more detail below.

DOE conducted several other analyses that either support the five major analyses or are preliminary analyses that will be expanded in the NOPR. These include the market and technology assessment; the screening analysis, which contributes to the engineering analysis; and the shipments analysis, which contributes to the NIA. DOE has begun some preliminary work on the manufacturer impact analysis and identified the methods to be used for the LCC subgroup analysis, the environmental assessment, the employment analysis, the regulatory impact analysis, and the utility impact analysis. DOE will expand on these in the NOPR.

A. Engineering Analysis

The engineering analysis establishes the relationship between the manufacturer selling price and the efficiency of the product. This relationship serves as the basis for cost-benefit calculations for individual consumers, manufacturers, and the nation. The engineering analysis identifies representative baseline models, which is the starting point for analyzing technologies that provide energy efficiency improvements. A baseline model refers to a model or models having features and technologies typically found in products currently offered for sale. The baseline model in each equipment class represents the characteristics of certain fluorescent lamp ballasts in that class and, for ballasts already subject to energy conservation standards, usually is a model that just meets the current standard. Chapter 5 of the preliminary TSD discusses the engineering analysis.

B. Energy Use Characterization

The energy use characterization provides estimates of annual energy consumption for fluorescent lamp ballasts, which DOE uses in the LCC and PBP analyses and the NIA. DOE developed energy consumption estimates for all of the product classes analyzed in the engineering analysis as the basis for its energy use estimates. Chapters 2 and 6 of the preliminary TSD provide detail on the energy use characterization.

C. Markups to Determine Installed Price

DOE derives the installed prices for products based on manufacturer markups, retailer markups, distributor markups, contractor markups, builder markups, and sales taxes. In deriving these markups, DOE has determined the distribution channels for product sales, the markup associated with each party in the distribution channels, and the existence and magnitude of differences between markups for baseline products (baseline markups) and for more-efficient products (incremental markups). DOE calculates both overall baseline and overall incremental markups based on the product markups at each step in the distribution channel. The overall incremental markup relates the change in the manufacturer sales price of higher-efficiency models (the incremental cost increase) to the change in the retailer or distributor sales price. Chapters 2 and 7 of the preliminary TSD provide detail on the estimation of markups.

D. Life-Cycle Cost and Payback Period Analyses

The LCC and PBP analyses determine the economic impact of potential standards on individual consumers. The LCC is the total consumer expense for a product over the life of the product. The LCC analysis compares the LCCs of products designed to meet possible energy conservation standards with the LCCs of the products likely to be installed in the absence of standards. DOE determines LCCs by considering (1) total installed cost to the purchaser (which consists of manufacturer selling price, sales taxes, distribution chain markups, and installation cost); (2) the operating expenses of the products (energy use and maintenance); (3) product lifetime; and (4) a discount rate that reflects the real consumer cost of capital and puts the LCC in present-value terms. The PBP represents the number of years needed to recover the increase in purchase price (including installation cost) of more efficient products through savings in the operating cost of the product. PBP is equal to the change in total installed cost due to increased efficiency divided by the change in annual operating cost from increased efficiency. Chapters 2 and 8 of the preliminary TSD provide detail on the LCC and PBP analyses.

E. National Impact Analysis

The NIA estimates the NES and the NPV of total consumer costs and savings expected to result from new standards at specific efficiency levels (referred to as candidate standard levels). DOE calculated NES and NPV for each level for each candidate standard for fluorescent lamp ballasts as the difference between a base-case forecast (without new standards) and the standards-case forecast (with standards). DOE determined national annual energy consumption by multiplying the number of units in use (by vintage) by the average unit energy consumption (also by vintage). Cumulative energy savings are the sum of the annual NES determined over a specified time period. The national NPV is the sum over time of the discounted net savings each year, which consists of the difference between total operating cost savings and increases in total installed costs. Critical inputs to this analysis include shipments projections, retirement rates (based on estimated product lifetimes), and estimates of changes in shipments and retirement rates in response to changes in product costs due to standards. Chapters 2 and 10 of the preliminary TSD provide detail on the NIA.

DOE consulted with interested parties on all of the analyses and invites further input on these topics. The preliminary analytical results are subject to revision following review and input from the public. A revised TSD will be made available upon issuance of a NOPR. The final rule will contain the final analysis results and be accompanied by a final rule TSD.

DOE encourages those who wish to participate in the public meeting to obtain the preliminary TSD and be prepared to discuss its contents. However, public meeting participants need not limit their comments to the topics identified in the preliminary TSD. DOE is also interested in receiving information on other relevant issues that participants believe would affect energy conservation standards for these products or that DOE should address in the NOPR.

DOE welcomes all interested parties, regardless of whether they participate in the public meeting, to submit comments and information in writing by May 10, 2010.

The public meeting will be conducted in an informal, conference style. A court reporter will be present to record the minutes of the meeting. There shall be no discussion of proprietary information, costs or prices, market shares, or other commercial matters regulated by United States antitrust laws.

After considering all comments and additional information it receives from interested parties or through further analyses, DOE will prepare and publish in the Federal Register a NOPR. The NOPR will include proposed energy conservation standards for the products covered by the rulemaking. Members of the public will have an opportunity to submit written and oral comments on the proposed standards.

Issued in Washington, DC, on February 22, 2010.
Cathy Zoi,
Assistant Secretary, Energy Efficiency and Renewable Energy.

[FR Doc. 2010-6373 Filed 3-23-10; 8:45 am]

BILLING CODE 6450-01-P